DEPARTMENT OF THE INTERIOR

National Park Service

Draft Environmental Impact Statement on Vessel Quotas and Operating Requirements for Glacier Bay National Park and Preserve, Alaska

AGENCY: National Park Service, Interior.

ACTION: Notice of availability of the Draft Environmental Impact Statement on Vessel Quotas and Operating Requirements.

SUMMARY: The National Park Service (NPS) announces the availability of the Draft Environmental Impact Statement (EIS) on Vessel Quotas and Operating Requirements for Glacier Bay National Park and Preserve. The document describes and analyzes the environmental impacts of four action alternatives, including a preferred alternative, for managing vessels in Glacier Bay and Dundas Bay. A no action alternative also is evaluated. This notice announces the public comment period, the locations of public hearings, and solicits comments on the EIS.

DATES: Comments on the draft plan and EIS must be received no later than May 13, 2003.

ADDRESSES: Written comments on the EIS should be submitted to Nancy Swanton, EIS Project Manager, 2525 Gambell Street, Anchorage, Alaska 99503. Submit written comments electronically through the park's Web site at http://www.nps.gov/glba. The draft EIS may be viewed at this Web site as well. Hard copies and CDs of the Draft EIS are available by request from the aforementioned address. See SUPPLEMENTARY INFORMATION for the locations of public hearings.

FOR FURTHER INFORMATION CONTACT: Nancy Swanton, EIS Project Manager, Glacier Bay National Park and Preserve. Telephone: (907) 257-2651.

SUPPLEMENTARY INFORMATION: The National Park Service (NPS) proposes to establish new or keep existing quotas (limits) and operating requirements for four types of waterborne motorized vessels—cruise ships and tour, charter, and private vessels—within Glacier Bay and Dundas Bay in Glacier Bay National Park and Preserve. The purpose for the action is to address the continuing demand for vessel access into Glacier Bay National Park and Preserve in a manner that assures continuing protection of park resources and values while providing for a range of high-quality recreational opportunities for visitors. The need for action stems from legislation enacted in 2001, wherein the U.S. Congress directed the NPS to set the maximum level of vessel entries based on the analysis in this EIS.

The EIS considers a reasonable range of alternatives that include:

• Alternative 1 (no action) would maintain the current vessel quotas, quota season, and operating requirements for Glacier Bay.

• Alternative 2 would set vessel quotas in accordance with the 1985-authorized levels and maintain the current quota season and operating requirements for Glacier Bay.

• Alternative 3 (NPS preferred alternative) would maintain the current vessel quotas for Glacier Bay, with a provision to increase the number of cruise ships. It would maintain the current quota season and operating requirements for Glacier Bay.

• Alternative 4 (environmentally preferred alternative) would maintain the daily quotas for cruise ships and reduce slightly the daily quotas for the other three vessel classes. It would reduce seasonal use days for cruise ships, tour vessels and charter vessels, and would increase slightly the number of seasonal use days for private vessels for Glacier Bay. The quota season would be lengthened to include May and September for all vessel classes. Seasonal entry quotas would be eliminated. Vessel quotas would be initiated for Dundas Bay. Operating requirements would be modified, including limited closure of certain waters to cruise ships and tour vessels.

• Alternative 5 would maintain the current daily vessel quotas and lengthen the quota season to include May and September for cruise ships. It would maintain the number of seasonal use days for cruise ships, tour vessels, and charter vessels during the current quota season but decrease the number of seasonal use days for cruise ships during May and September. It would increase the number of seasonal use days for private vessels. Seasonal entry quotas would be eliminated. Vessel quotas would be initiated for tour and charter vessels in Dundas Bay. Operating requirements would be modified, including limited closures of certain waters to cruise ships and tour vessels.

Public hearings will take place in April 2003 at the following locations: Anchorage, Juneau, Gustavus, Hoonah, Elfin Cove, and Pelican, Alaska, and Seattle, Washington. The specific dates and times of the public hearings will be announced in local media.

Dated: February 12, 2003.
Marcia Blaszak,
Acting Regional Director, Alaska.

[FR Doc. 03-6206 Filed 3-13-03; 8:45 am]

BILLING CODE 4310-70-P